DEPARTMENT OF EDUCATION

Office of Special Education and Rehabilitative Services; Overview Information:

Technical Assistance and Dissemination to Improve Services and Results for Children With Disabilities—Center on Dispute Resolution; Notice Inviting Applications for New Awards for Fiscal Year (FY) 2008.

Catalog of Federal Domestic Assistance (CFDA) Number: 84.326D.

DATES: Applications Available: July 30, 2008.

Deadline for Transmittal of Applications: August 29, 2008.

Deadline for Intergovernmental Review: September 8, 2008.

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

Priority: In accordance with 34 CFR 75.105(b)(2)(v), this priority is from allowable activities specified in the statute or otherwise authorized in the statute (see sections 663 and 681(d) of the Individuals with Disabilities Education Act (IDEA), 20 U.S.C. 1400 et seq.).

Absolute Priority: For FY 2008 and any subsequent year in which we make awards based on the list of unfunded applicants from this competition, this priority is an absolute priority. Under 34 CFR 75.105(c)(3), we consider only applications that meet this priority.

This priority is:

Technical Assistance and Dissemination to Improve Services and Results for Children With Disabilities—Center on Dispute Resolution.

Background

IDEA includes procedural safeguards that give parents an opportunity to file complaints about any matter relating to the provision of a free appropriate public education to an eligible child, including procedures that are designed to ensure the timely resolution of disputes so that a child's educational or early intervention program is not adversely affected. Currently, the procedural safeguards provide for the filing of State complaints, mediation, resolution sessions, and due process hearings.

State Complaints. The State complaint procedures under IDEA provide an easily and widely accessible method for parents and other interested individuals or organizations to voice concerns regarding alleged violations of IDEA to the State.

Mediation. In response to the growing number of due process hearing requests involving matters under IDEA, Congress amended IDEA in 1997 to require State educational agencies (SEAs) and Part C lead agencies to make mediation available, at a minimum, whenever a request for a due process hearing was made. The purpose of this requirement was to provide the parties involved in a dispute with an opportunity to resolve the dispute without a due process hearing. In 2004, Congress amended section 615(e) of IDEA to expand the use of mediation to allow parties to resolve disputes involving any matter under IDEA (not just those matters that are the subject of a due process complaint). Mediation provides a neutral third party to help facilitate the resolution of matters in dispute. Mediation is more likely than due process hearings to foster positive relationships between families and educators (U.S. Government Accountability Office, 2003).

Resolution Session. The 2004 amendments to IDEA added a new requirement for a resolution session prior to a due process hearing. Under section 615(f)(1)(B) of IDEA, the local educational agency (LEA) must convene a meeting with the parents and relevant member or members of the individualized education program (IEP) team who have specific knowledge of the facts identified in the complaint so that the parents and the LEA have an opportunity to resolve the complaint and avoid a due process hearing.

Due Process Hearings. Due process hearings provide the parties with an opportunity to have an impartial decision-maker resolve the issues in dispute. While due process hearings are an important protection, they can be costly if parties choose to involve attorneys in the process, time consuming, and contentious, and can damage relationships between families and educators. Therefore, the Department believes every effort should be made by the parties to resolve disputes as early as possible and without a due process hearing.

Data from State Performance Plans (SPPs) and Annual Performance Reports (APRs) submitted by States to the Office of Special Education Programs (OSEP) indicate that, although progress is being made, some States have not yet met their compliance targets for the timely resolution of State complaints and due process hearing requests. In addition, some States have not yet met their performance targets for the percentage of mediations and resolution meetings that result in agreement between the parties. Therefore, technical assistance and information on effective dispute resolution practices is needed in order for States to reach these targets (Consortium for Appropriate Dispute Resolution in Special Education, 2007). Additionally, States need technical assistance and information on how to effectively implement the requirements added by the 2004 amendments to IDEA for resolution sessions.

In addition to the methods of dispute resolution specifically required under IDEA (i.e., State complaint procedures, mediation, resolution sessions, and due process hearings), there are a variety of more informal or “early resolution” practices that can be used to resolve disputes at the school or district level. In the preamble to the final regulations implementing Part B of IDEA, the Department encouraged States to explore the use of early resolution practices to facilitate the timely resolution of disputes and to preserve the relationships between families and educators (71 FR 46540, 46604). Early resolution strategies offer parties additional opportunities to resolve disputes collaboratively and avoid time-consuming and costly litigation (U.S. Government Accountability Office, 2003). For example, training in conflict resolution, which is designed to equip individuals with skills to enhance their ability to communicate and negotiate their positions and interests, has been shown to result in early resolution of disputes (Henderson, 2008).

Since 1998, OSEP has funded a TA center to support States' implementation of dispute resolution processes. (For further information on the work of the current center, go to www.directionservice.org/cadre.) This center's grant is about to end. The Department believes it is important to continue to fund a TA center that provides SEAs and Part C lead agencies with resources that can help them in effectively implementing a range of dispute resolution options, including strategies that other SEAs and Part C lead agencies are using to address the SPP and APR indicators related to dispute resolution. SEAs and Part C lead agencies also need information on how to collect and use dispute resolution data to improve services and results for children with disabilities and their families. In addition, continued funding of a TA center on dispute resolution will help ensure that parents and families get the information they need about various methods for resolving disputes.

Priority

The purpose of this priority is to fund a cooperative agreement to support the establishment and operation of a Center on Dispute Resolution (Center) that will (1) provide TA to SEAs and Part C lead agencies on dispute resolution methods that can be used to resolve disputes in connection with the programs they implement under Part B and Part C of IDEA, and (2) collaborate with the National and Regional Technical Assistance Centers for Parent Centers funded by OSEP (Parent TACs) to provide information and resources to parents and families regarding strategies for resolving disagreements with SEAs and Part C lead agencies, utilizing a range of dispute resolution options.

The TA provided to SEAs and Part C lead agencies by the Center must address how to (1) implement a range of dispute resolution procedures, including those specifically required under IDEA (i.e., State complaints, mediation, resolution sessions, and due process hearings) and techniques that facilitate early resolution of disputes; (2) collect, analyze, and report dispute resolution data to improve the State's system of general supervision and APR reporting; and (3) use dispute resolution data to improve services and results for children with disabilities and their families. The TA provided by the Center also must include targeted TA for SEAs and Part C lead agencies identified by OSEP that have not met the dispute resolution targets for the SPP indicators under IDEA and have been referred to the Center for assistance.

To be considered for funding under this absolute priority, applicants must meet the application requirements contained in this priority. The project funded under this absolute priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: For more information on logic models, the following Web site lists multiple on-line resources: http://www.cdc.gov/eval/resources.htm.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A budget for a summative evaluation to be conducted by an independent third party;

(e) A budget for attendance at the following:

(1) A one and one-half day kick-off meeting to be held in Washington, DC within four weeks after receipt of the award, and a two day annual planning meeting held in Washington, DC with the OSEP Project Officer during each subsequent year of the project period.

(2) A three-day Project Directors' Conference in Washington, DC during each year of the project period.

(3) A four-day Technical Assistance and Dissemination Conference in Washington, DC during each year of the project period.

(4) A three-day OSEP Leadership Meeting during each year of the project period; and

(f) A line item in the proposed budget for an annual set-aside of five percent of the grant amount to support emerging needs that are consistent with the proposed project's activities, as those needs are identified in consultation with OSEP.

Note: With approval from the OSEP Project Officer, the Center must reallocate any remaining funds from this annual set-aside no later than the end of the third quarter of each budget period.

Project Activities. To meet the requirements of this priority, the Center, at a minimum, must conduct the following activities:

Knowledge Development Activities.

(a) Develop or update, as appropriate, research syntheses on the elements of effective approaches to dispute resolution and techniques to facilitate early resolution of disputes.

(b) Identify and document effective approaches to dispute resolution, including those dispute resolution methods required under IDEA (i.e., State complaints, mediation, resolution sessions, and due process hearings) as well as other methods that have been shown to facilitate early resolution of disputes.

(c) In the first six months of the project period, identify a minimum of three States to partner with that have implemented effective dispute resolution systems for their Part B or Part C programs. The purpose of establishing a partnership with States is for the Center to acquire knowledge about how dispute resolution is working in the States and to use the information to inform the technical assistance and dissemination work of the Center. In partnering with States, the Center must work with both the Part C and Part B programs in each State. Factors for consideration in selecting the partner States could include whether (1) the State met its targets for the dispute resolution indicators in its SPP; (2) the State has a demonstrated history of using effective dispute resolution processes, including early resolution practices; and (3) the State offers professional development activities to local program staff that focus on timely and effective dispute resolution practices. Final State selection must be approved by OSEP.

Note: Applicants must describe in their application the proposed methods and criteria for recruiting and selecting partner States for the activities described in paragraph (c) of this section.

(d) In the first and second years of the project period, partner with the States identified in paragraph (c) of this section to (1) develop guidelines for implementing effective dispute resolution approaches and for monitoring and evaluating the implementation of these approaches and (2) identify, describe, and document the elements of the dispute resolution approaches that make them effective. The Center must build on the information learned from their work with partner States to develop exemplars and guidelines that all States can use to improve their dispute resolution processes, as appropriate.

(e) Collaborate with the Parent TACs to identify and document dispute resolution information needs of parents of children with disabilities and their families. The Center must collect data about the information parents and families need to fully participate in resolving disputes, including data that will inform the type of TA that the Center will offer in paragraph (e) of the Technical Assistance and Dissemination Activities section of this priority.

Technical Assistance and Dissemination Activities.

(a) Work directly with SEAs and Part C lead agencies using the exemplars and guidelines developed in the first and second years of the project to increase their capacity to effectively implement the range of dispute resolution options available, including early resolution practices. The Center must facilitate the development of State consortia, such as State-to-State information sharing systems, or regional TA networks to disseminate information on effective dispute resolution approaches in order to maximize the number of States the Center reaches. These activities must occur by at least the third year of the project period.

(b) In each year of the project period, utilize the current knowledge-base on dispute resolution to provide TA to SEAs and Part C lead agencies who are not successfully meeting their targets for the dispute resolution indicators in their SPPs by working collaboratively with States to—

(1) Evaluate the SEA or Part C lead agency's current dispute resolution system;

(2) Identify elements of the dispute resolution system that need improvement; and

(3) Develop an improvement plan and provide TA to implement the plan, as requested by OSEP.

(c) Develop materials and guidance for States to assist them in meeting the dispute resolution indicators on SPPs and APRs.

(d) Provide TA on collecting, analyzing, reporting, and using dispute resolution data to improve services and results for children with disabilities and their families (i.e., analyzing and modifying, as appropriate, existing data management systems; providing guidance on how to collect timely and accurate data; offering strategies for reporting dispute resolution data to a variety of audiences; and utilizing the data to identify and address areas in need of improvement).

(e) Collaborate with the Parent TACs to provide TA and products to parents and families that will help them avoid and resolve disputes using the range of dispute resolution options available. Specific TA activities and products must address the needs identified in paragraph (e) of the Knowledge Development Activities section of this priority.

(f) Provide a continuum of general TA and disseminate widely information about effective dispute resolution practices to SEA personnel, Part C lead agency personnel, and Parent TACs using a variety of dissemination methods (e.g., managing listservs and communities of practice);

(g) Maintain a Web site that meets a government or industry-recognized standard for accessibility and that links to the Web site operated by the Technical Assistance Coordination Center (TACC), which OSEP intends to fund in FY 2008; and

(h) Prepare and disseminate reports, documents, and other materials on dispute resolution procedures, as requested by OSEP for specific audiences, including policy makers, service providers, local-level administrators, and parents and families. In consultation with the OSEP Project Officer and the advisory committee established in accordance with paragraph (c) in the Leadership and Coordination Activities section of this priority, make selected reports, documents, and other materials available for parents and families in both English and Spanish.

Leadership and Coordination Activities.

(a) Compile and share data related to dispute resolution from States' APRs and, as appropriate, SPPs, and specifically data from Part B indicators 16 (complaint timelines), 17 (due process hearing timelines), 18 (hearing requests resolved by resolution sessions), and 19 (mediation agreements) and Part C indicators 10 (complaint timelines), 11 (due process hearing timelines), 12 (hearing requests resolved by resolution sessions), and 13 (mediation agreements) by—

(1) Reviewing relevant sections of each State's APR and, as appropriate, SPP, and summarizing the data on these indicators;

(2) Developing a summary report for each indicator that includes information about States' progress in meeting targets for the indicator, as well as any revisions made to States' dispute resolution systems, or improvement strategies; and

(3) Providing a summary report for each indicator to OSEP in a timely manner and participating in OSEP-requested teleconferences to discuss the findings of the summary reports. (For further information on Part B performance and compliance indicators, go to http://www.ed.gov/policy/speced/guid/idea/bapr/index.html. For further information on Part C performance and compliance indicators, go to http://www.ed.gov/policy/speced/guid/idea/capr/index.html.)

(b) Collaborate with the OSEP-funded Data Accountability Center throughout the project period to acquire the data referenced in paragraph (a) of this section.

(c) Establish and maintain an advisory committee to review the activities and outcomes of the Center and provide programmatic support and advice throughout the project period. At a minimum, the advisory committee must meet through electronic means on an annual basis and consist of a family member or an individual with a disability who has received IDEA services; an individual with knowledge of cultural and linguistic diversity; a representative from an SEA; a representative from a Part C lead agency, or other appropriate public agency (e.g., social services, public health, mental health); and persons with expertise in dispute resolution processes.

(d) Participate in, organize, or facilitate, as appropriate, OSEP communities of practice (http://www.tacommunities.org/) that are aligned with the Center's objectives as a way to support discussions and collaboration among key stakeholders.

(f) Prior to developing any new product, whether paper or electronic, submit to the OSEP Project Officer and the Proposed Product Advisory Board at OSEP's TACC for approval, a proposal describing the content and purpose of the product.

(g) Coordinate with the National Dissemination Center for Individuals with Disabilities, which OSEP intends to fund in FY 2008, to develop an efficient and high-quality dissemination strategy that reaches broad audiences. The Center must report to the OSEP Project Officer the outcomes of these coordination efforts.

(h) Contribute, on an ongoing basis, updated information on the Center's services to OSEP's Technical Assistance and Dissemination Matrix (http://matrix.rrfcnetwork.org/), which provides current information on Department-funded TA services to a range of stakeholders.

(i) Maintain ongoing communication with the OSEP Project Officer through monthly phone conversations, quarterly progress reports, and e-mail communication.

Fourth and Fifth Years of the Project

In deciding whether to continue funding the Center for the fourth and fifth years, the Secretary will consider the requirements of 34 CFR 75.253(a), and in addition—

(a) The recommendation of a review team consisting of experts selected by the Secretary. This review will be conducted during a one-day intensive meeting in Washington, DC that will be held during the last half of the second year of the project period. The Center must budget for travel expenses associated with this one-day intensive review;

(b) The timeliness and effectiveness with which all requirements of the negotiated cooperative agreement have been or are being met by the Center; and

(c) The quality, relevance, and usefulness of the Center's activities and products and the degree to which the Center's activities and products have contributed to changed practice and improved processes for resolving disputes in special education and early intervention services.

References

Consortium for Appropriate Dispute Resolution in Special Education. (2007). APR/SPP dispute resolution data summaries part B and part C: 2003-2006. Eugene, OR: National Center on Dispute Resolution in Special Education.

Henderson, K. (2008, May). Optional IDEA alternative dispute resolution. Project Forum at the National Association of State Directors of Special Education (NASDSE) and Consortium for Appropriate Dispute Resolution in Special Education (CADRE). Retrieved June 5, 2008, from http://www.projectforum.org/docs/OptionalIDEAAlternativeDisputeResolution.pdf.

U.S. Government Accountability Office. (2003, September). Special Education: Numbers of formal disputes are generally low and States are using mediation and other strategies to resolve conflicts. (Publication No. GAO-03-897). Retrieved June 21, 2007, from GAO Reports: Main Page via GPO Access: http://www.gpoaccess.gov/gaoreports/index.html.

Waiver of Proposed Rulemaking: Under the Administrative Procedure Act (APA) (5 U.S.C. 553), the Department generally offers interested parties the opportunity to comment on proposed priorities and requirements. Section 681(d) of IDEA, however, makes the public comment requirements of the APA inapplicable to the priority in this notice.

Program Authority: 20 U.S.C. 1463 and 1481.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education (IHEs) only.

II. Award Information

Type of Award: Cooperative Agreement.

Estimated Available Funds: $500,000.

Estimated Average Size of Awards: $500,000.

Maximum Awards: We will reject any application that proposes a budget exceeding $500,000 for a single budget period of 12 months. The Assistant Secretary for Special Education and Rehabilitative Services may change the maximum amount through a notice published in the Federal Register.

Number of Awards: 1.

Note: The Department is not bound by any estimates in this notice.

Project Period: Up to 60 months.

III. Eligibility Information

1. Eligible Applicants: SEAs; LEAs, including public charter schools that are considered LEAs under State law; IHEs; other public agencies; private nonprofit organizations; outlying areas; freely associated States; Indian tribes or tribal organizations; and for-profit organizations.

2. Cost Sharing or Matching: This competition does not require cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address To Request Application Package: Education Publications Center (ED Pubs), P.O. Box 1398, Jessup, MD 20794-1398. Telephone, toll free: 1-877-433-7827. FAX: (301) 470-1244. If you use a telecommunications device for the deaf (TDD), call, toll free: 1-877-576-7734.

You can contact ED Pubs at its Web site, also: www.ed.gov/pubs/edpubs.html or at its e-mail address: edpubs@inet.ed.gov.

If you request an application package from ED Pubs, be sure to identify this program or competition as follows: CFDA Number 84.326D.

Individuals with disabilities can obtain a copy of the application package in an alternative format (e.g., Braille, large print, audiotape, or computer diskette) by contacting the person or team listed under Alternative Format in section VIII of this notice.

2. Content and Form of Application Submission: Requirements concerning the content of an application, together with the forms you must submit, are in the application package for this competition.

Page Limit: The application narrative (Part III of the application) is where you, the applicant, address the selection criteria that reviewers use to evaluate your application. You must limit the application narrative to the equivalent of no more than 70 pages, using the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, or the letters of support. The page limit, however, does apply to the application narrative in Part III.

We will reject your application if you exceed the page limit or if you use other standards and exceed the equivalent of the page limit.

3. Submission Dates and Times:

Applications Available: July 30, 2008.

Deadline for Transmittal of Applications: August 29, 2008.

Applications for grants under this competition may be submitted electronically using the Grants.gov Apply site (Grants.gov), or in paper format by mail or hand delivery. For information (including dates and times) about how to submit your application electronically, or in paper format by mail or hand delivery, please refer to section IV. 6.

Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice.

Deadline for Intergovernmental Review: September 8, 2008.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section in this notice.

6. Other Submission Requirements: Applications for grants under this program may be submitted electronically or in paper format by mail or hand delivery.

a. Electronic Submission of Applications.

To comply with the President's Management Agenda, we are participating as a partner in the Governmentwide Grants.gov Apply site. The Center on Dispute Resolution competition, CFDA Number 84.326D, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the Center on Dispute Resolution competition at http://www.Grants.gov. You must search for the downloadable application package for this competition by the CFDA number. Do not include the CFDA number's alpha suffix in your search (e.g., search for 84.326, not 84.326D).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov;

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.326D) 400 Maryland Avenue, SW., Washington, DC 20202-4260.

or

By mail through a commercial carrier: U.S. Department of Education, Application Control Center, Stop 4260, Attention: (CFDA Number 84.326D) 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326D) 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Peer Review: In the past, the Department has had difficulty finding peer reviewers for certain competitions because so many individuals who are eligible to serve as peer reviewers have conflicts of interest. The Standing Panel requirements under IDEA also have placed additional constraints on the availability of reviewers. Therefore, the Department has determined that, for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notice (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children With Disabilities program. These measures focus on the extent to which projects provide high quality products and services, the relevance of project products and services to educational and early intervention policy and practice, and the use of products and services to improve educational and early intervention policy and practice.

Grantees will be required to provide information related to these measures.

Grantees also will be required to report information on their project's performance in annual reports to the Department (34 CFR 75.590).

VII. Agency Contact

FOR FURTHER INFORMATION CONTACT: Tina Diamond, U.S. Department of Education, 400 Maryland Avenue, SW., room 4094, Potomac Center Plaza (PCP), Washington, DC 20202-2550. Telephone: (202) 245-6674.

If you use a TDD, call the Federal Relay Service (FRS), toll free, at 1-800-877-8339.

VIII. Other Information

Alternative Format: Individuals with disabilities can obtain this document and a copy of the application package in an alternative format (e.g., Braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Dated: July 24, 2008.
Tracy R. Justesen,
Assistant Secretary for Special Education and Rehabilitative Services.

[FR Doc. E8-17408 Filed 7-29-08; 8:45 am]

BILLING CODE 4000-01-P